DEPARTMENT OF TRANSPORTATION

Federal Aviation Administration

Study on the Use of Cell Phones On Board Aircraft

AGENCY: Federal Aviation Administration (FAA), DOT.

ACTION: Notice of availability and request for comments.

SUMMARY: The FAA Modernization and Reform Act of 2012 (Pub. L. 112-95) directed the Administrator of the FAA to conduct a study on the impact of the use of cell phones for voice communications in an aircraft during a flight in scheduled air transportation. A draft report on this study is currently available for review and public comment at http://www.faa.gov/aircraft/draft_docs/.

DATES: Written comments must be received on or before November 5, 2012.

ADDRESSES: Send comments identified as Cell Phone Study Comments using any of the following methods:

• E-Mail: Send comments to CELLPHONEcomment@faa.gov.

• Mail: Send comments to Avionics Maintenance Branch, AFS-360, Flight Standards Service, Federal Aviation Administration, 800 Independence Avenue SW., Washington, DC 20591.

• Fax: Fax comments to (202) 385-6474.

FOR FURTHER INFORMATION CONTACT: For questions concerning this action, contact David B. Walen, Chief Scientific and Technical Advisor for Aircraft Electromagnetic Compatibility, Aviation Safety, Federal Aviation Administration, 1601 Lind Avenue SW., Renton, Washington 98057; telephone (425) 917-6586; facsimile (425) 917-6590; email dave.walen@faa.gov.

Background

The FAA Modernization and Reform Act of 2012 ¹ directed the Federal Aviation Administration (FAA) to conduct a study on the impact of the use of cell phones for voice communications in scheduled passenger air transportation and provide a 60-day opportunity for public comment. The Act also requires the FAA to report to Congress on the results of the study by Nov 10, 2012. Air carriers do not allow the use of cell phones on their airplanes in flight in US airspace, because Federal Communications Commission regulations prohibit the use of certain classes of cell phones while airborne.² FAA guidance ³ supports this airborne restriction because of the potential for cell phone interference to aircraft systems and equipment.

¹ FAA Modernization and Reform Act of 2012, H.R. 658.

² 47 CFR 22.925.

³ FAA Advisory Circular 91.21-1B, Use of Portable Electronic Devices Aboard Aircraft, August 25, 2006.

The FAA Modernization and Reform Act of 2012 section 410 directed the FAA to conduct a study on the impact of the use of cell phones for voice communications in scheduled passenger air transportation. The study included—

(1) A review of foreign government and air carrier policies on the use of cell phones during flight;

(2) A review of the extent to which passengers use cell phones for voice communications during flight; and

(3) A summary of any impacts of cell phone use during flight on safety, the quality of the flight experience of passengers, and flight attendants.

FAA requested information on these subjects from the national aviation authorities that have approved the installation of on-board cell phone base stations, and allowed the use of cell phones in flight on aircraft equipped with these base stations. The responses from these national aviation authorities were documented in the FAA report to address the requirements of FAA Modernization and Reform Act section 410.

In accordance with the Congressional direction, a report on this study is available for review and public comment at http://www.faa.gov/aircraft/draft_docs/.

Considerations for Comment

The FAA Modernization and Reform Act section 410 does not direct FAA or FCC to change the existing policies and regulations that govern the use of cell phones in flight. However, this study provides factual information on the experience of airlines and the national aviation authorities that allow the use of cell phones in flight. Any future rulemaking related to airborne cell phone use will consider this study.

The FAA is interested in obtaining comments on the report that documents the study on the use of cell phones on passenger aircraft. We are soliciting comments in the following general areas:

• Information from aircraft operators that may not have been provided in the responses from the national aviation authorities;

• Flight attendant and pilot experience with cell phone use on aircraft equipped with on-board cell phone base stations;

• Passenger experience on aircraft equipped with on-board cell phone base stations.

Request for Comments

The FAA invites interested persons to submit written comments, data, or views. The agency also invites comments relating to the economic, environmental, energy, or federalism impacts that might result from changes in our current policy. The most helpful comments reference a specific area of concern, explain the reason for any recommended change, and include supporting data. Commenters should submit their comment(s) only once, in either written or electronic form, to ensure there is no duplication.

The FAA will consider all comments it receives on or before the closing date for comments. The FAA will consider comments filed after the comment period has closed if it is possible to do so without incurring expense or delay. The FAA will summarize the comments received in a final revision of the cell phone study.

Proprietary or Confidential Business Information: Proprietary or confidential business information must be sent or delivered directly to the person identified in the FOR FURTHER INFORMATION CONTACT section of this document, and marked as proprietary or confidential. If submitting information on a disk or CD ROM, mark the outside of the disk or CD ROM, and identify electronically within the disk or CD ROM the specific information that is proprietary or confidential.

Under 14 CFR 11.35(b), the FAA is aware of proprietary information filed with a comment and does not make it publically available. It is held in a separate file to which the public does not have access. If the FAA receives a request to examine or copy this information, it treats it as any other request under the Freedom of Information Act (5 U.S.C. 552). The FAA processes such a request under Department of Transportation procedures found in 49 CFR part 7.

Issued in Washington, DC on August 30, 2012.
Susan J. M. Cabler,
Asst. Manager, Aircraft Engineering Division, Aircraft Certification Service.

[FR Doc. 2012-21826 Filed 9-4-12; 8:45 am]

BILLING CODE 4910-13-P